DEPARTMENT OF THE TREASURY

Internal Revenue Service

Open Meeting of the Taxpayer Advocacy Panel Notices and Correspondence Project Committee; Correction

AGENCY: Internal Revenue Service (IRS), Treasury.

ACTION: Notice of meeting; correction.

SUMMARY: In the Federal Register notice that was originally published on December 10, 2014, (Volume 79, Number 237, Page 73404) the meeting location was inadvertently omitted. The location of the meeting is: Albuquerque, New Mexico.

DATES: The meetings will be held Monday, January 12, 2015 and Tuesday, January 13, 2015.

FOR FURTHER INFORMATION CONTACT: Theresa Singleton at 1-888-912-1227 or 202-317-3329.

SUPPLEMENTARY INFORMATION: Notice is hereby given pursuant to Section 10(a)(2) of the Federal Advisory Committee Act, 5 U.S.C. App. (1988) that a meeting of the Taxpayer Advocacy Panel Notices and Correspondence Project Committee will be held Monday, January 12, 2015, from 1:00 p.m. to 4:30 p.m., and Tuesday, January 13, 2015, from 8:00 a.m. to 4:30 p.m. Mountain Time in Albuquerque, New Mexico. The public is invited to make oral comments or submit written statements for consideration. Notification of intent to participate must be made with Theresa Singleton. For more information please contact: Theresa Singleton at 1-888-912-1227 or 202-317-3329, TAP Office, 1111 Constitution Avenue NW., Room 1509—National Office, Washington, DC 20224, or contact us at the Web site: http://www.improveirs.org.

The agenda will include a discussion on various letters, and other issues related to written communications from the IRS.

Dated: December 16, 2014.
Otis Simpson,
Acting Director, Taxpayer Advocacy Panel.

[FR Doc. 2014-30075 Filed 12-22-14; 8:45 am]

BILLING CODE 4830-01-P